NUCLEAR REGULATORY COMMISSION

[Docket No. 52-047; NRC-2016-0119]

Early Site Permit Application; Tennessee Valley Authority Clinch River Nuclear Site

AGENCY: Nuclear Regulatory Commission.

ACTION: Environmental impact statement; issuance.

SUMMARY: The U.S. Nuclear Regulatory Commission (NRC) and the U.S. Army Corps of Engineers (USACE), Nashville District, are issuing NUREG-2226, “Environmental Impact Statement for the Early Site Permit (ESP) for the Clinch River Nuclear (CRN) Site: Final Report.” The site is located in Roane County, Tennessee, along the Clinch River, approximately 25 miles west-southwest of downtown Knoxville, Tennessee. The purpose of this notice is to inform the public that the NRC staff has issued a final environmental impact statement (EIS) as part of the review of the application submitted by Tennessee Valley Authority (TVA) for an ESP for the CRN site.

DATES: The final EIS is available as of April 8, 2019.

ADDRESSES: Please refer to Docket ID when contacting the NRC about the availability of information regarding this document. You may obtain publicly-available information related to this document using any of the following methods:

• Federal Rulemaking Website: Go to http://www.regulations.gov and search for Docket ID NRC-2016-0119. Address questions about Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@ nrc.gov. The final EIS is available in ADAMS under Accession Nos. ML19073A099 and ML19073A109.

• NRC's PDR: You may examine and purchase copies of public documents at the NRC's PDR, Room O1-F21, One White Flint North, 11555 Rockville Pike, Rockville, Maryland 20852.

• Project Website: The final EIS can be accessed online at the Clinch River ESP specific web page at http://www.nrc.gov/reactors/new-reactors/esp/clinch-river.html.

FOR FURTHER INFORMATION CONTACT: Tamsen Dozier, Office of New Reactors, U.S. Nuclear Regulatory Commission, Washington DC 20555-0001; telephone: 301-415-2272, email: Tamsen.Dozier@nrc.gov.

SUPPLEMENTARY INFORMATION:

I. Background

Pursuant to part 52 of title 10 of the Code of Federal Regulations (10 CFR), on May 12, 2016, TVA submitted an application for an ESP for the CRN Site, located on approximately 935 acres in Roane County, Tennessee. A notice of intent to prepare an EIS and to conduct scoping process was published in the Federal Register on April 13, 2017 (82 FR 17885). A notice of availability of the draft EIS was published by the NRC in the Federal Register on April 26, 2018 (83 FR 18354) and also noticed by the U.S. Environmental Protection Agency on April 27, 2018 (83 FR 18554). The public comment period closed on July 13, 2018. Public comments are addressed in Appendix E in the final EIS. The final EIS is available for public inspection as indicated in the ADDRESSES section of this document. This notice is being published in accordance with the National Environmental Policy Act of 1969, as amended (NEPA) and the NRC's regulations in 10 CFR part 51.

In addition, as outlined in 36 CFR 800.8(c), “Coordination with the National Environmental Policy Act,” the NRC staff has been coordinating compliance with Section 106 of the National Historic Preservation Act (NHPA) with steps taken to meet the requirements of the NEPA. Pursuant to 36 CFR 800.8(c), the NRC staff used the process and documentation for the preparation of the EIS on the proposed action to comply with Section 106 of the NHPA in lieu of the procedures set forth on 36 CFR 800.3 through 800.6.

In accordance with 10 CFR 51.45 and 51.50, TVA submitted the environmental report (ER) as part of the application; the ER is available in ADAMS under Package Accession No. ML19030A478.

II. Discussion

As discussed in the final EIS, the NRC staff's recommendation related to the environmental aspects of the proposed action is that the ESP should be issued. This recommendation is based on: (1) The ER submitted by TVA, as revised; (2) consultation with Federal, State, Tribal and local agencies; (3) the NRC staff's independent review; (4) the NRC staff's consideration of comments received during the environmental review; and (5) the assessments summarized in the final EIS, including the potential mitigation measures identified in the ER and in the final EIS.

In addition, in making its recommendation, the NRC staff has concluded that there are no environmentally preferable or obviously superior sites in the region of interest.

Dated at Rockville, Maryland, this 3rd day of April 2019.
For the Nuclear Regulatory Commission.
Anna H. Bradford,
Deputy Director, Division of Licensing Siting and Environmental Analyses, Office of New Reactors.

[FR Doc. 2019-06876 Filed 4-5-19; 8:45 am]

BILLING CODE 7590-01-P